DEPARTMENT OF COMMERCE

National Oceanic and Atmospheric Administration

RIN 0648-XE805

Pacific Fishery Management Council; Public Meeting

AGENCY: National Marine Fisheries Service (NMFS), National Oceanic and Atmospheric Administration (NOAA), Commerce.

ACTION: Notice of a public meeting.

SUMMARY: The Pacific Fishery Management Council's (Pacific Council) Groundfish Management Team (GMT) will hold a one-day work session that is open to the public.

DATES: The meeting will begin at 9 a.m. on Thursday, October 6, 2016, and end after business for the day is completed.

ADDRESSES: The meeting will be held at the Washington Department of Fish and Wildlife Natural Resources Building, Room 682, 1111 Washington St. SE., Olympia, WA 98501, (360) 902-2200.

Council address: Pacific Council, 7700 NE. Ambassador Place, Suite 101, Portland, Oregon 97220-1384.

FOR FURTHER INFORMATION CONTACT: Ms. Kelly Ames, Pacific Council, 503-820-2426.

SUPPLEMENTARY INFORMATION:

Agenda

The primary purpose of the GMT work session is to discuss with the West Coast Groundfish Observer Program refinements to groundfish projection models for use in fishery management. The GMT's task will be to identify which models need improvements, outline the improvements necessary, and develop recommendations for consideration by the Pacific Council at its November meeting in Garden Grove, California. During the November meeting, the Council will determine which models are ready for review and recommend a review schedule. A detailed description on the process for revising and approving models is outlined in Council Operating Procedure 25. The GMT may also address other assignments relating to groundfish management. No management actions will be decided by the GMT.

Although nonemergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

The meetings are physically accessible to people with disabilities. Requests for sign language interpretation or other auxiliary aids should be directed to Mr. Kris Kleinschmidt, at (503) 820-2425, at least five days prior to the meeting date.

Authority: 16 U.S.C. 1801 et seq.

Dated: August 11, 2016.
Tracey L. Thompson,
Acting Director, Office of Sustainable Fisheries, National Marine Fisheries Service.

[FR Doc. 2016-19490 Filed 8-15-16; 8:45 am]

BILLING CODE 3510-22-P